DEPARTMENT OF ENERGY

10 CFR Part 430

[EERE-2013-BT-TP-0050]

RIN 1904-AD88

Energy Conservation Program: Energy Conservation Standards for Ceiling Fans

AGENCY: Office of Energy Efficiency and Renewable Energy, Department of Energy.

ACTION: Final rule; technical amendment.

SUMMARY: The Energy Policy and Conservation Act, as amended (“EPCA”), prescribes energy conservation standards for various consumer products, including ceiling fans. The Energy Act of 2020 amended the energy conservation standards for large-diameter ceiling fans (“LDCFs”). DOE codified these efficiency requirements in a final rule published May 27, 2021. When DOE published the final rule codifying the standards for LDCFs in 2021, DOE's test procedure for LDCFs was applicable only to those ceiling fans with a diameter less than or equal to 24 feet. As a result, DOE could not implement the full scope of LDCF standards set forth in the Energy Act of 2020. In order to remedy this situation, DOE has removed this limit on ceiling fan diameter in the most recent test procedure rulemaking for ceiling fans. As such, DOE is now able to implement in this final rule the full scope of standards for LDCFs set forth in the Energy Act of 2020.

DATES: The effective date of this rule is November 28, 2022.

FOR FURTHER INFORMATION CONTACT: Mr. Jeremy Dommu, U.S. Department of Energy, Office of Energy Efficiency and Renewable Energy, Building Technologies Office, EE-5B, 1000 Independence Avenue SW, Washington, DC 20585-0121. Email: ApplianceStandardsQuestions@ee.doe.gov.

Ms. Amelia Whiting, U.S. Department of Energy, Office of the General Counsel, GC-33, 1000 Independence Avenue SW, Washington, DC 20585-0121. Telephone: (202) 586-2588. Email: amelia.whiting@hq.doe.gov.

SUPPLEMENTARY INFORMATION:

Table of Contents

I. Authority and Background

II. Clarification of the Scope of the LDCF Standards Established in the Energy Act of 2020

III. Final Action

IV. Procedural Issues and Regulator Review

A. Review Under Executive Order 12866

B. Review Under the Regulatory Flexibility Act

C. Review Under the Paperwork Reduction Act of 1995

D. Review Under the National Environmental Policy Act of 1969

E. Review Under Executive Order 13132

F. Review Under Executive Order 12988

G. Review Under the Unfunded Mandates Reform Act of 1995

H. Review Under the Treasury and General Government Appropriations Act, 1999

I. Review Under Executive Order 12630

J. Review Under Treasury and General Government Appropriations Act, 2001

K. Review Under Executive Order 13211

L. Congressional Notification

V. Approval of the Office of the Secretary

I. Authority and Background

EPCA authorizes DOE to regulate the energy efficiency of a number of consumer products and certain industrial equipment. Title III, Part B of EPCA established the Energy Conservation Program for Consumer Products Other Than Automobiles. These products include ceiling fans, the subject of this document. (42 U.S.C. 6291(49); 42 U.S.C. 6293(b)(16)(A)(i) and (B); and 42 U.S.C. 6295(ff))

DOE's energy conservation standards and test procedures for ceiling fans are currently prescribed in the Code of Federal Regulations (“CFR”) at 10 CFR 430.32(s)(1) and (2), 10 CFR 430.23(w), and 10 CFR part 430, subpart B, appendix U (“appendix U”), respectively.

The DOE test procedure for ceiling fans was amended in a test procedure final rule published on July 25, 2016. 81 FR 48619 (“July 2016 Final Rule”). The July 2016 Final Rule defined a large-diameter ceiling fan (“LDCF”) as “a ceiling fan that is greater than seven feet in diameter.”. Id. at 81 FR 48640. In the July 2016 Final Rule, DOE stated that it was unaware at the time of any commercially available large-diameter fans with blade spans greater than 24 feet, and therefore could not confirm that the test procedure would produce reliable results for fans larger than 24 feet in diameter. 81 FR 48619, 48632. As such, the July 2016 Final Rule established in section 3.4.1 of appendix U that the test procedure was applicable to large-diameter ceiling fans (“LDCFs”) less than or equal to 24 feet in diameter. Id. at 81 FR 48643.

On January 19, 2017, DOE issued a final rule establishing energy conservation standards for the LDCF product class. 82 FR 6826, 6886 (“January 2017 Final Rule”). LDCFs manufactured on or after January 21, 2020, had to meet a minimum efficiency in cubic feet per minute per watt of 0.91D-30.00, where “D” is the ceiling fan's blade span, in inches. Id.

Section 1008 of the Energy Act of 2020 (the “Energy Act”) amended section 325(ff)(6) of EPCA to specify that LDCFs manufactured on or after January 21, 2020, are not required to meet minimum ceiling fan efficiency requirements in terms of the total airflow to the total power consumption, CFM/W, as established in the January 2017 Final Rule, but instead must meet minimum efficiency requirements based on the Ceiling Fan Energy Index (“CFEI”) metric. (42 U.S.C. 6295(ff)(6)(C)(i)(I), as codified) The Energy Act requires LDCFs to have a CFEI greater than or equal to 1.00 at high speed and 1.31 at 40 percent speed or the nearest speed that is not less than 40 percent speed. (42 U.S.C. 6295(ff)(6)(C)(i)(II), as codified) Further, the Energy Act specifies that CFEI is to be calculated in accordance with American National Standards Institute ANSI/Air Movement and Control Association International, Inc. (“AMCA”) Standard 208-18, “Calculation of Fan Energy Index,” with the following modifications: (I) Using an airflow constant (Q0) of 26,500 cubic feet per minute; (II) Using a pressure constant (P0) of 0.0027 inches water gauge; and (III) Using a fan efficiency constant (η0) of 42 percent. (42 U.S.C. 6295(ff)(6)(C)(ii), as codified) Finally, section 1008(b) of the Energy Act states that for the purposes of the periodic review requirements in section 325(m) of EPCA, the standard established in the Energy Act shall be treated as if such standard was issued on January 19, 2017. The Energy Act did not restrict application of the referenced industry test procedure or amended energy conservation standards to LDCFs with diameters less than 24 ft.

On May 27, 2021, DOE published a technical amendment to codify the amended regulations for LDCFs enacted by Congress through the Energy Act. 86 FR 28469 (“May 2021 Technical Amendment”). At that time because the DOE test procedure was limited to ceiling fans with diameters less than or equal to 24 ft, DOE was unable to implement the revised energy conservation standards for the full scope of LDCFs set forth in the Energy Act. In order to remedy this situation, DOE first published a test procedure final rule on August 16, 2022 (“August 2022 Final Rule”), that extended the scope of the test procedure to include ceiling fans with a diameter greater than 24 feet. 87 FR 50396. In the August 2022 Final Rule, DOE explained that nothing inherent to the test procedure would prevent testing of a ceiling fan greater than 24 feet, and that the ceiling fan industry trade group had confirmed that the test facilities used by industry are capable of accommodating ceiling fans with blade spans substantially larger than 24 feet. Id. at 87 FR 50403. DOE explained in the August 2022 Final Rule that it would address any potential changes to the scope of standards for LDCFs in a separate rulemaking. Id. This final rule implements the full scope of energy conservation standards for LDCFs set forth in the Energy Act of 2020.

II. Implementation of the Full Scope of Standards for LDCF's set Forth in the Energy Act of 2020

DOE codified the standards in the Energy Act for LDCFs with diameters less than or equal to 24 ft in the May 2021 Technical Amendment. In this final rule, DOE is codifying the full scope of energy conservation standards set forth in the Energy Act by extending the current standards for LDCFs to ceiling fans with diameters greater than 24 ft. Consistent with this implementation, DOE is amending 10 CFR 430.32(s)(2)(ii) to clarify that the energy conservation standards apply to large-diameter ceiling fans as defined in appendix U. Namely that large-diameter ceiling fan means “a ceiling fan that is not a highly-decorative ceiling fan or belt-driven ceiling fan and has a represented value of blade span, as determined in 10 CFR 420.32(a)(3)(i), greater than seven feet.”

III. Testing and Enforcement

While this final rule is effective November 28, 2022, DOE is aware that testing subject to appendix U for LDCFs greater than 24 feet is not required until February 13, 2023. See 87 FR 50396. As such, DOE is not requiring compliance with the standards until use of the test method is required, i.e., February 13, 2023.

IV. Final Action

DOE has determined, pursuant to 5 U.S.C. 553(b)(B), that prior notice and an opportunity for public comment on this final rule are unnecessary. DOE is merely placing in the Code of Federal Regulations for the benefit of the public energy conservation standards for LDCFs prescribed by Congress in the Energy Act of 2020. DOE is not exercising any of the discretionary authority that Congress has provided in EPCA for the Secretary of Energy to revise, by rule, product or equipment definitions, test procedures and energy conservation standards. DOE, therefore, finds that good cause exists to waive prior notice and an opportunity to comment for this rulemaking. For the same reasons, DOE, pursuant to 5 U.S.C. 553(d)(3), finds that good cause exists for making this final rule effective upon publication in the Federal Register.

V. Procedural Issues and Regulator Review

A. Review Under Executive Order 12866

This final rule is not a “significant regulatory action” under any of the criteria set out in section 3(f) of Executive Order 12866, “Regulatory Planning and Review.” 58 FR 51735 (October 4, 1993). Accordingly, this action was not subject to review by the Office of Information and Regulatory Affairs (OIRA) in the Office of Management and Budget (OMB).

B. Review Under the Regulatory Flexibility Act

The Regulatory Flexibility Act (5 U.S.C. 601 et seq.) requires preparation of a final regulatory flexibility analysis (FRFA) for any final rule where the agency was first required by law to publish a proposed rule for public comment, unless the agency certifies that the rule, if promulgated, will not have a significant economic impact on a substantial number of small entities. As required by Executive Order 13272, “Proper Consideration of Small Entities in Agency Rulemaking,” 67 FR 53461 (August 16, 2002), DOE published procedures and policies on February 19, 2003, to ensure that the potential impacts of its rules on small entities are properly considered during the DOE rulemaking process. 68 FR 7990. DOE has made its procedures and policies available on the Office of the General Counsel's website: www.energy.gov/gc/office-general-counsel. DOE is revising the Code of Federal Regulations to incorporate revised requirements for large-diameter ceiling fans prescribed by Public Law 116-260 and conforming amendments. Because this is a technical amendment for which a general notice of proposed rulemaking is not required, the analytical requirements of the Regulatory Flexibility Act do not apply to this rulemaking.

C. Review Under the Paperwork Reduction Act of 1995

Manufacturers of ceiling fans must certify to DOE that their products comply with any applicable energy conservation standards. DOE has established regulations for the certification and recordkeeping requirements for all covered consumer products and commercial equipment, including ceiling fans. (See generally 10 CFR part 429) The collection-of-information requirement for the certification and recordkeeping is subject to review and approval by OMB under the Paperwork Reduction Act (“PRA”). This requirement has been approved by OMB under OMB control number 1910-1400. Public reporting burden for the certification is estimated to average 35 hours per response, including the time for reviewing instructions, searching existing data sources, gathering and maintaining the data needed, certifying compliance, and completing and reviewing the collection of information.

Notwithstanding any other provision of the law, no person is required to respond to, nor shall any person be subject to a penalty for failure to comply with, a collection of information subject to the requirements of the PRA, unless that collection of information displays a currently valid OMB Control Number.

D. Review Under the National Environmental Policy Act of 1969

Pursuant to the National Environmental Policy Act (“NEPA”) of 1969, DOE has analyzed this proposed action in accordance with NEPA and DOE's NEPA implementing regulations (10 CFR part 1021). DOE has determined that this rule qualifies for categorical exclusion under 10 CFR part 1021, subpart D, appendix A5, because it is an interpretive rulemaking that does not change the environmental effect of the rule and meets the requirements for application of a categorical exclusion. See 10 CFR 1021.410. Therefore, DOE has determined that promulgation of this rule is not a major Federal action significantly affecting the quality of the human environment within the meaning of NEPA, and does not require an environmental assessment or environmental impact statement.

E. Review Under Executive Order 13132

Executive Order 13132, “Federalism,” 64 FR 43255 (August 4, 1999), imposes certain requirements on agencies formulating and implementing policies or regulations that preempt State law or that have federalism implications. The Executive order requires agencies to examine the constitutional and statutory authority supporting any action that would limit the policymaking discretion of the States and to carefully assess the necessity for such actions. The Executive order also requires agencies to have an accountable process to ensure meaningful and timely input by State and local officials in the development of regulatory policies that have federalism implications. On March 14, 2000, DOE published a statement of policy describing the intergovernmental consultation process it will follow in the development of such regulations. 65 FR 13735. DOE examined this final rule and determined that it will not have a substantial direct effect on the States, on the relationship between the National Government and the States, or on the distribution of power and responsibilities among the various levels of government. EPCA governs and prescribes Federal preemption of State regulations as to energy conservation for the products that are the subject of this final rule. States can petition DOE for exemption from such preemption to the extent, and based on criteria, set forth in EPCA. (42 U.S.C. 6297(d)) No further action is required by Executive Order 13132.

F. Review Under Executive Order 12988

Regarding the review of existing regulations and the promulgation of new regulations, section 3(a) of Executive Order 12988, “Civil Justice Reform,” 61 FR 4729 (Feb. 7, 1996), imposes on Federal agencies the general duty to adhere to the following requirements: (1) eliminate drafting errors and ambiguity; (2) write regulations to minimize litigation; (3) provide a clear legal standard for affected conduct rather than a general standard; and (4) promote simplification and burden reduction. Section 3(b) of Executive Order 12988 specifically requires that Executive agencies make every reasonable effort to ensure that the regulation (1) clearly specifies the preemptive effect, if any; (2) clearly specifies any effect on existing Federal law or regulation; (3) provides a clear legal standard for affected conduct while promoting simplification and burden reduction; (4) specifies the retroactive effect, if any; (5) adequately defines key terms; and (6) addresses other important issues affecting clarity and general draftsmanship under any guidelines issued by the Attorney General. Section 3(c) of Executive Order 12988 requires Executive agencies to review regulations in light of applicable standards in sections 3(a) and 3(b) to determine whether they are met or it is unreasonable to meet one or more of them. DOE has completed the required review and determined that, to the extent permitted by law, this final rule meets the relevant standards of Executive Order 12988.

G. Review Under the Unfunded Mandates Reform Act of 1995

Title II of the Unfunded Mandates Reform Act of 1995 (“UMRA”) requires each Federal agency to assess the effects of Federal regulatory actions on State, local, and Tribal governments and the private sector. Public Law 104-4, sec. 201 (codified at 2 U.S.C. 1531). For a regulatory action resulting in a rule that may cause the expenditure by State, local, and Tribal governments, in the aggregate, or by the private sector of $100 million or more in any one year (adjusted annually for inflation), section 202 of UMRA requires a Federal agency to publish a written statement that estimates the resulting costs, benefits, and other effects on the national economy. (2 U.S.C. 1532(a), (b)) The UMRA also requires a Federal agency to develop an effective process to permit timely input by elected officers of State, local, and Tribal governments on a proposed “significant intergovernmental mandate,” and requires an agency plan for giving notice and opportunity for timely input to potentially affected small governments before establishing any requirements that might significantly or uniquely affect small governments. On March 18, 1997, DOE published a statement of policy on its process for intergovernmental consultation under UMRA. 62 FR 12820; also available at www.energy.gov/gc/office-general-counsel. DOE examined this final rule according to UMRA and its statement of policy and determined that the rule contains neither an intergovernmental mandate, nor a mandate that may result in the expenditure of $100 million or more in any year, so these requirements do not apply.

H. Review Under the Treasury and General Government Appropriations Act, 1999

Section 654 of the Treasury and General Government Appropriations Act, 1999 (Pub. L. 105-277) requires Federal agencies to issue a Family Policymaking Assessment for any rule that may affect family well-being. This final rule will not have any impact on the autonomy or integrity of the family as an institution. Accordingly, DOE has concluded that it is not necessary to prepare a Family Policymaking Assessment.

I. Review Under Executive Order 12630

DOE has determined, under Executive Order 12630, “Governmental Actions and Interference with Constitutionally Protected Property Rights” 53 FR 8859 (March 18, 1988), that this regulation will not result in any takings that might require compensation under the Fifth Amendment to the U.S. Constitution.

J. Review Under Treasury and General Government Appropriations Act, 2001

Section 515 of the Treasury and General Government Appropriations Act, 2001 (44 U.S.C. 3516 note) provides for agencies to review most disseminations of information to the public under guidelines established by each agency pursuant to general guidelines issued by OMB. OMB's guidelines were published at 67 FR 8452 (Feb. 22, 2002), and DOE's guidelines were published at 67 FR 62446 (Oct. 7, 2002). Pursuant to OMB Memorandum M-19-15, Improving Implementation of the Information Quality Act (April 24, 2019), DOE published updated guidelines which are available at www.energy.gov/sites/prod/files/2019/12/f70/DOE%20Final%20Updated%20IQA%20Guidelines%20Dec%202019.pdf. DOE has reviewed this final rule under the OMB and DOE guidelines and has concluded that it is consistent with applicable policies in those guidelines.

K. Review Under Executive Order 13211

Executive Order 13211, “Actions Concerning Regulations That Significantly Affect Energy Supply, Distribution, or Use,” 66 FR 28355 (May 22, 2001), requires Federal agencies to prepare and submit to OMB, a Statement of Energy Effects for any significant energy action. A “significant energy action” is defined as any action by an agency that promulgated or is expected to lead to promulgation of a final rule, and that (1) is a significant regulatory action under Executive Order 12866, or any successor order; and (2) is likely to have a significant adverse effect on the supply, distribution, or use of energy; or (3) is designated by the Administrator of OIRA as a significant energy action. For any significant energy action, the agency must give a detailed statement of any adverse effects on energy supply, distribution, or use if the regulation is implemented, and of reasonable alternatives to the action and their expected benefits on energy supply, distribution, and use.

This regulatory action is not a significant regulatory action under Executive Order 12866. Moreover, it would not have a significant adverse effect on the supply, distribution, or use of energy, nor has it been designated as a significant energy action by the Administrator of OIRA. Therefore, it is not a significant energy action, and, accordingly, DOE has not prepared a Statement of Energy Effects.

L. Congressional Notification

As required by 5 U.S.C. 801, DOE will report to Congress on the promulgation of this rule prior to its effective date. The report will state that it has been determined that the rule is not a “major rule” as defined by 5 U.S.C. 804(2).

V. Approval of the Office of the Secretary

The Secretary of Energy has approved publication of this Final rule; technical amendment.

List of Subjects in 10 CFR Part 430

Administrative practice and procedure, Confidential business information, Energy conservation, Household appliances, Imports, Intergovernmental relations, Small businesses.

Signing Authority

This document of the Department of Energy was signed on November 21, 2022, Francisco Alejandro Moreno, Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 21, 2022.
Treena V. Garrett,
Federal Register Liaison Officer, U.S. Department of Energy.

For the reasons set forth in the preamble, DOE amends part 430 of chapter II of title 10, Code of Federal Regulations as set forth below:

PART 430—ENERGY CONSERVATION PROGRAM FOR CONSUMER PRODUCTS

1. The authority citation for part 430 continues to read as follows:

Authority: 42 U.S.C. 6291-6309; 28 U.S.C. 2461 note.

2. Section 430.32 is amended by revising paragraph (s)(2)(ii) introductory text to read as follows:

§ 430.32 Energy and water conservation standards and their compliance dates.

* * * * *

(s) * * *

(2) * * *

(ii) Large-diameter ceiling fans, as defined in appendix U to subpart B of this part, manufactured on or after January 21, 2020, shall have a CFEI greater than or equal to -

* * * * *

[FR Doc. 2022-25749 Filed 11-25-22; 8:45 am]

BILLING CODE 6450-01-P